DEPARTMENT OF STATE

[Public Notice 9048]

Notice of Receipt of NuStar Logistics, L.P., Application To Amend a Presidential Permit for an Existing Pipeline on the Border of the United States and Mexico

AGENCY: Department of State.

ACTION: Notice.

SUMMARY: Notice is hereby given that the Department of State (“Department”) has received an application from NuStar Logistics, L.P. (“NuStar”) to amend a Presidential Permit published on February 17, 2006 (“2006 Presidential Permit”) to construct, connect, operate, and maintain pipeline facilities (the “Burgos Pipeline”) at the United States-Mexico border. Specifically, NuStar requests that the Department amend the 2006 Presidential Permit to: (1) Reflect NuStar's name change from Valero Logistics Operations, L.P. to NuStar Logistics, L.P., as the owner and operator of the Burgos Pipeline; and (2) to permit the import and export of a broader range of petroleum products, including liquefied petroleum gas (“LPG”), and natural gas liquids (“NGLs”). The 2006 Presidential Permit only authorized the transportation of naphtha.

NuStar is a subsidiary of NuStar Energy L.P., which is a publicly traded master limited partnership based in San Antonio, Texas and is one of the largest independent liquids terminal and pipeline operators in the United States. NuStar currently has 8,643 miles of pipeline and 82 terminal and storage facilities that store and distribute crude oil, refined products and specialty liquids. Its system has approximately 91 million barrels of storage capacity.

Under E.O. 13337, the Secretary of State is designated and empowered to receive all applications for Presidential Permits for the construction, connection, operation, or maintenance at the borders of the United States, of facilities for the exportation or importation of liquid petroleum, petroleum products, or other non-gaseous fuels to or from a foreign country. The Department of State has the responsibility to determine whether issuance of an amended Presidential Permit for operation and maintenance of a pipeline at the Burgos facility would serve the U.S. national interest.

The Department anticipates conducting an environmental review consistent with the National Environmental Policy Act of 1969. The Department will provide more information on the review process in a future Federal Register notice.

NuStar's application is available at http://www.state.gov/e/enr/applicant/applicants/index.htm.

FOR FURTHER INFORMATION CONTACT: Acting Director, Energy Resources Bureau, Energy Diplomacy (ENR/EDP/EWA), United States Department of State, 2201 C St. NW., Suite 4843, Washington, DC 20520.

Dated: February 20, 2015.
Chris Davy,
Acting Director, Energy Resources Bureau, Energy Diplomacy (ENR/EDP/EWA), Bureau of Energy Resources, U.S. Department of State.

[FR Doc. 2015-04134 Filed 2-26-15; 8:45 am]

BILLING CODE 4710-AE-P